DEPARTMENT OF THE INTERIOR

National Park Service

[NPS-WASO-NAGPRA-NPS0024983; PPWOCRADN0-PCU00RP14.R50000]

Notice of Inventory Completion: U.S. Fish and Wildlife Service, Alaska Region, Anchorage, AK

AGENCY: National Park Service, Interior.

ACTION: Notice.

SUMMARY: The U.S. Fish and Wildlife Service, Alaska Region (Alaska Region USFWS) has completed an inventory of human remains and associated funerary objects, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains and associated funerary objects should submit a written request to the Alaska Region USFWS. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Alaska Region USFWS at the address in this notice by March 26, 2018.

ADDRESSES: Edward DeCleva, Regional Historic Preservation Officer, U.S. Fish and Wildlife Service, Alaska Region, 1011 East Tudor Road MS-235, Anchorage, AK 99503, telephone (907) 786-3399, email edward_decleva@fws.gov.

SUPPLEMENTARY INFORMATION: Notice is here given in accordance with the Native American Graves Protection and Repatriation Act (NAGPRA), 25 U.S.C. 3003, of the completion of an inventory of human remains and associated funerary objects under the control of the Alaska Region USFWS, Anchorage, AK. The human remains and associated funerary objects were removed from multiple sites on Kodiak Island, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Alaska Region USFWS professional staff in consultation with representatives of the Alutiiq Museum and Archaeological Repository, acting as agent for the Alutiiq Tribe of Old Harbor (previously listed as Native Village of Old Harbor and Village of Old Harbor); Kaguyak Village; Native Village of Afognak; Native Village of Akhiok; Native Village of Larsen Bay; Native Village of Ouzinkie; Native Village of Port Lions; Sun'aq Tribe of Kodiak (previously listed as the Shoonaq' Tribe of Kodiak); and Tangirnaq Native Village (formerly Lesnoi Village (aka Woody Island)).

History and Description of the Remains

In 1977 and 1978, human remains representing, at minimum, 2 individuals were removed from 49-KOD-171 on Chief Cove, Spiridon Bay on Kodiak Island, AK. Some of these human remains were identified as human in 1977, during faunal analysis and additional elements were identified during the 2010 review of unmodified faunal material. No known individuals were identified. No associated funerary objects are present.

In 1977, human remains representing, at minimum, 7 individuals were removed from 49-KOD-172 on Chief Cove Island, Spiridon Bay, on Kodiak Island, AK. Some of these human remains were identified as human in 1977 during faunal analysis and additional elements were identified during the 2010 review of unmodified faunal material. No known individuals were identified. No associated funerary objects are present.

In 1977, human remains representing, at minimum, 3 individuals were removed from 49-KOD-221 along Uganik Passage on Kodiak Island, AK. No known individuals were identified. No associated funerary objects are present.

In 1977, human remains representing, at minimum, 1 individual were removed from 49-KOD-223 on Uganik Island, in the Kodiak Island Borough, AK. No known individuals were identified. No associated funerary objects are present.

In 1977 or 1978, human remains representing, at minimum, 5 individuals were removed from 49-KOD-224 on the southwest side of Uganik Island, in the Kodiak Island Borough, AK. These human remains were probably removed during the 1978 archeological excavation lead by U.S. Fish and Wildlife Service archeologist Michael Nowak. No known individuals were identified. No associated funerary objects are present.

In 1978, human remains representing, at minimum, 1 individual were removed from 49-KOD-249 on the southwest side of Uganik Island, in the Kodiak Island Borough, AK. No known individuals were identified. No associated funerary objects are present.

In 1978, human remains representing, at minimum, 4 individuals were removed from 49-KOD-257 on the southwest coast of Uganik Island, in the Kodiak Island Borough, AK. No known individuals were identified. The one associated funerary object is a lot of shell, rock, and faunal remains.

In 1978, human remains representing, at minimum, 1 individual were removed from 49-KOD-260 on the northeast shore of East Arm Uganik Bay, in the Kodiak Island Borough, AK. No known individuals were identified. No associated funerary objects are present.

In 1978, human remains representing, at minimum, 1 individual were removed from 49-KOD-280 on the west shore of South Arm Uganik Bay, in the Kodiak Island Borough, AK. No known individuals were identified. No associated funerary objects are present.

The human remains from the above sites were removed during an archeological survey led by Alaska Region USFWS archeologist Michael Nowak and were transferred to the University of Alaska Fairbanks, Museum of the North (UAMN). Portions of the collection were subsequently transferred to other institutions for study and curation. On October 28, 2016, the entire collection was once again consolidated at the UAMN.

Stratigraphic observations, cultural materials, and carbon dates indicate that the sites contain deposits spanning at least 2,000 years, from both the Late Kachemak and Koniag traditions. Archeological data indicate that modern Alutiiq peoples evolved from these archeologically documented societies. As such, the human remains from the above sites are likely Native American and most closely culturally affiliated with the modern Kodiak Alutiiq people.

Determinations Made by the Alaska Region USFWS

Officials of the Alaska Region USFWS have determined that:

• Pursuant to 25 U.S.C. 3001(9), the human remains described in this notice represent the physical remains of 25 individuals of Native American ancestry.

• Pursuant to 25 U.S.C. 3001(3)(A), the 1 associated funerary object described in this notice is reasonably believed to have been placed with or near individual human remains at the time of death or later as part of the death rite or ceremony.

• Pursuant to 25 U.S.C. 3001(2), there is a relationship of shared group identity that can be reasonably traced between the Native American human remains and associated funerary objects and the Native Village of Larsen Bay.

Additional Requestors and Disposition

Lineal descendants or representatives of any Indian tribe or Native Hawaiian organization not identified in this notice that wish to request transfer of control of these human remains and associated funerary objects should submit a written request with information in support of the request to Edward DeCleva, Regional Historic Preservation Officer, U.S. Fish and Wildlife Service, Alaska Region, 1011 East Tudor Road MS-235, Anchorage, AK 99503, telephone (907) 786-3399, email edward_decleva@fws.gov, by March 26, 2018. After that date, if no additional requestors have come forward, transfer of control of the human remains and associated funerary objects to the Native Village of Larsen Bay may proceed.

The Alaska Region USFWS is responsible for notifying the Alutiiq Tribe of Old Harbor (previously listed as Native Village of Old Harbor and Village of Old Harbor), Kaguyak Village, Native Village of Afognak, Native Village of Akhiok, Native Village of Larsen Bay, Native Village of Ouzinkie, Native Village of Port Lions, Sun'aq Tribe of Kodiak (previously listed as the Shoonaq' Tribe of Kodiak), Tangirnaq Native Village (formerly Lesnoi Village (aka Woody Island)) that this notice has been published.

Dated: February 2, 2018.
Melanie O'Brien,
Manager, National NAGPRA Program.

[FR Doc. 2018-03636 Filed 2-21-18; 8:45 am]

BILLING CODE 4312-52-P